FEDERAL COMMUNICATIONS COMMISSION

Notice of Public Information Collection(s) Being Reviewed by the Federal Communications Commission, Comments Requested

June 8, 2001.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 24, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0833.

Title: Complaint Filings/ Designation of Agents.

Form No.: N/A.

Type of Review: Revision of currently approved collection.

Respondents: Individuals or households, business or other for-profit, not-for-profit institutions, state, local or tribal governments, and Federal government.

Number of Respondents: 1,000 prospective complainants annually will report accessibility problems or file complaints using the Commission's various means and may be asked to provide the Commission with further information later in the process. This should take approximately 2 hours per response, for a total annual burden of about 2,000 hours. There will be no estimated annual cost. Approximately 1,000 equipment manufacturers and services providers annually are expected to be involved in resolving these complaints. We estimate that these steps will take approximately 6.50 hours per respondent for a total annual burden of 6,500 hours. The estimated annual cost is $720,000. In addition, 7,677 telecommunications equipment manufacturers and service providers annually are expected to provide a list of points of contact for disability access complaints. Satisfying these burdens will likely require about 1 hour per respondent for a total annual burden of 7,677 hours and no annual cost. Thus, the total number of respondents is 9,677.

Estimated Time Per Response: For filing complaints, 2 hours; for complaint processing, 6.5 hours; for designation of agent, 1 hour.

Frequency of Response: Recordkeeping; on occasion reporting requirement (for complaints); one-time filing (for designation of agent).

Total Annual Burden: 16,177 hours.

Total Annual Cost: $720,000.

Needs and Uses: For complaints, respondents will be consumers. In addition, telecommunications equipment manufacturers and telecommunications service providers will be required to file a one-time designation of an agent whose principal function will be to ensure the manufacturer's or service provider's prompt receipt and handling of accessibility concerns raised by consumers or Commission staff. The burdens proposed in the Report and Order are limited to those necessary to ensure that telecommunications equipment and services are available to all Americans, including those individuals with disabilities. The ultimate goal of the proceeding is the implementation of Section 255 of the Telecommunications Act of 1996.

Federal Communications Commission.
Magalie Roman Salas,
Secretary.

[FR Doc. 01-15904 Filed 6-22-01; 8:45 am]

BILLING CODE 6712-01-P